DEPARTMENT OF COMMERCE

Bureau of Industry and Security

Action Affecting Export Privileges: AR-AM Medical Services LLC; In the Matter of AR-AM Medical Services LLC; Case No. 06-08

Order

The Office of Antiboycott Compliance, Bureau of Industry and Security, U.S. Department of Commerce (“BIS”), having determined to initiate an administrative proceeding pursuant to Section 11(c) of the Export Administration Act of 1979, as amended (50 U.S.C. 2401-2420 (2000)) (the “Act”) ¹ and the Export Administration Regulations (currently codified at 15 CFR Parts 730-774 (2007) (the “Regulations”), against AR-AM Medical Services LLC (“AR-AM”), a domestic concern, based on allegations set forth in the Proposed Charging Letter, dated April 17, 2006, that alleged that AR-AM committed three violations of the Regulations;

¹ From August 21, 1994 through November 12, 2000, the Act was in lapse. During that period, the President, through Executive Order 12924, which had been extended by successive Presidential Notices, the last of which was August 3, 2000 (3 CFR 2000 Comp. 397 (2001)), continued the Regulations in effect under the International Emergency Economic Powers Act (50 U.S.C. 1701-1706 (2000)) (“IEEPA”). On November 13, 2000, the Act was reauthorized by Pub. L. 106-508 (114 Stat. 2360 (2000)) and remained in effect through August 20, 2001. Since August 21, 2001, the Act has been in lapse. Executive Order 13222 of August 17, 2001 (3 CFR 2001 Comp 783 (2002)), which has been extended by successive Presidential Notices, the most recent of which was August 15, 2007 (72 FR 46137 (August 16, 2007)), continues the Regulations in effect under IEEPA.

* * * * *

Specifically, the charges are:

1. Three Violations of 15 CFR 760.2(d)—Furnishing Information about Business Relationships With Boycotted Countries or Blacklisted Persons: During the years 2001 and 2002, AR-AM engaged in transaction(s) involving the sale and/or transfer of goods or services (including information) from the United States to Syria. In connection with these activities, on three occasions, AR-AM, with intent to comply with, further or support an unsanctioned foreign boycott, furnished information concerning its or another person's business relationships with or in a boycotted country, an activity prohibited by Section 760.2(d) of the Regulations, and not excepted.

BIS and AR-AM having entered into a Settlement Agreement pursuant to Section 766.18(a) of the Regulations whereby the parties have agreed to settle this matter in accordance with the terms and conditions set forth therein and the terms of the Settlement Agreement having been approved by me;

It is therefore ordered that:

First, a civil penalty of $7,200 is assessed against AR-AM. Payment shall be suspended for a period of two years from the date of entry of this Order and thereafter shall be waived, provided that, during the period of suspension, AR-AM has committed no violation of the Act and Regulations or any order issued thereunder.

Second, for a period of two years from the date of entry of this Order, AR-AM Medical Services LLC (Great Neck, New York) (“Denied Person”) may not participate, directly or indirectly, in any way in any transaction involving any commodity, software or technology (collectively, “item”) exported or to be exported from the United States to Bahrain, Iraq, Kuwait, Lebanon, Libya, Oman, Qatar, Saudi Arabia, Syria, the United Arab Emirates or the Republic of Yemen (collectively, the “Territory”) that is subject to the Regulations, or in any other activity relating to the Territory that is subject to the Regulations, including, but not limited to:

A. Applying for, obtaining, or using any license, License Exception, or export control document, relating to the Territory;

B. Carrying on negotiations concerning, or ordering, buying, receiving, using, selling, delivering, storing, disposing of, forwarding, transporting, financing, or otherwise servicing in any way, any transaction involving any item exported or to be exported fro the United States to the Territory that is subject to the Regulations, or in any other activity relating to the Territory subject to the Regulations; or

C. Benefitting in any way from any transaction involving any item exported or to be exported from the United States to the Territory that is subject to the Regulations, or in any other activity relating to the Territory subject to the Regulations.

Third, no person may, directly or indirectly, do any of the following:

A. Export or reexport to or on behalf of the Denied Person any item subject to the Regulations from the United States to the Territory;

B. Take any action that facilitates the acquisition or attempted acquisition by the Denied Person of the ownership, possession or control of any item subject to the Regulations that has been or will be exported from the United States to the Territory, including financing or other support activities related to a transaction whereby the Denied Person acquires or attempts to acquire such ownership, possession or control;

C. Take any action to acquire from or to facilitate the acquisition or attempted acquisition from the Denied Person of any item subject to the Regulations that has been exported from the United States to the Territory;

D. Obtain from the Denied Person in the United States any item subject to the Regulations with knowledge or reason to know that the item will be, or is intended to be, exported from the United States to the Territory; or

E. Engage in any transaction to service any item subject to the Regulations that has been or will be exported from the United States to the Territory, and which is owned, possessed or controlled by the Denied Person or service any item, of whatever origin, that is owned, possessed or controlled by the Denied Person if such service involves the use of any item subject to the Regulations that has been or will be exported from the United States to the Territory. For the purposes of this paragraph, service means installation, maintenance, repair, modification or testing.

Fourth, after notice and opportunity for comment as provided in Section 766.23 of the Regulations, any person, firm, corporation or business organization related to the Denied Person by affiliation, ownership, control or position of responsibility in the conduct or trade or related services may also be made subject to the provisions of this Order.

Fifth, this Order does not prohibit any export, reexport, or other transaction subject to the Regulations where the only items involved that are subject to the Regulations are the foreign-produced direct product of the U.S.-origin technology.

Sixth, the Proposed Charging Letter, the Settlement Agreement and this Order shall be made available to the public, and a copy of this Order shall be served on the Denied Person and on BIS, and shall be published in the Federal Register.

This Order, which constitutes the final agency action in this matter, is effective immediately.

Entered this 14th day of January, 2008.
Darryl W. Jackson,
Assistant Secretary of Commerce for Export Enforcement.

[FR Doc. 08-522 Filed 2-7-08; 8:45 am]

BILLING CODE 3510-DT-M